DEPARTMENT OF ENERGY

Federal Energy Regulatory Commission

Combined Notice of Filings # 1

Take notice that the Commission received the following electric corporate filings:

Docket Numbers: EC16-95-000.

Applicants: Calhoun Power Company, LLC.

Description: Application of Calhoun Power Company, LLC for Authorization Under Section 203 of the Federal Power Act for Disposition of Jurisdictional Facilities and Requests for Waivers, Expedited Action, and Confidential Treatment.

Filed Date: 3/29/16.

Accession Number: 20160329-5212.

Comments Due: 5 p.m. ET 4/19/16.

Take notice that the Commission received the following electric rate filings:

Docket Numbers: ER10-1585-008; ER12-60-010; ER10-1632-010; ER10-1628-008; ER10-1623-004; ER10-1617-008; ER10-1616-004; ER10-1594-008.

Applicants: Alabama Electric Marketing, LLC, California Electric Marketing, LLC, New Covert Generating Company, LLC, New Mexico Electric Marketing, LLC, Tenaska Frontier Partners, Ltd., Tenaska Power Management, LLC, Tenaska Power Services Co., Texas Electric Marketing, LLC.

Description: Supplement to June 30, 2015 Triennial Market Power Analysis for the Central Region of the Tenaska MBR Sellers.

Filed Date: 3/30/16.

Accession Number: 20160330-5170.

Comments Due: 5 p.m. ET 4/20/16.

Docket Numbers: ER16-885-001.

Applicants: Entergy Arkansas, Inc.

Description: Tariff Amendment: Union Power Station Joint Operating Agreement to be effective 3/3/2016.

Filed Date: 3/15/16.

Accession Number: 20160315-5164.

Comments Due: 5 p.m. ET 4/20/16.

Docket Numbers: ER16-890-001.

Applicants: Summer Solar LLC.

Description: Tariff Amendment: Summer Solar LLC MBR Tariff to be effective 3/4/2016.

Filed Date: 3/29/16.

Accession Number: 20160329-5203.

Comments Due: 5 p.m. ET 4/19/16.

Docket Numbers: ER16-1255-000.

Applicants: Antelope Big Sky Ranch LLC.

Description: Supplement to March 22, 2016 Antelope Big Sky Ranch LLC tariff filing [replacement Transmittal Letter and Appendix B attachments].

Filed Date: 3/30/16.

Accession Number: 20160330-5075.

Comments Due: 5 p.m. ET 4/20/16.

Docket Numbers: ER16-1284-000.

Applicants: Southwest Power Pool, Inc.

Description: § 205(d) Rate Filing: 607R27 Westar Energy, Inc. NITSA NOA to be effective 3/1/2016.

Filed Date: 3/30/16.

Accession Number: 20160330-5092.

Comments Due: 5 p.m. ET 4/20/16.

Docket Numbers: ER16-1285-000.

Applicants: Southwest Power Pool, Inc.

Description: § 205(d) Rate Filing: 1276R10 KCPL NITSA NOA to be effective 3/1/2016.

Filed Date: 3/30/16.

Accession Number: 20160330-5098.

Comments Due: 5 p.m. ET 4/20/16.

Docket Numbers: ER16-1286-000.

Applicants: Southwest Power Pool, Inc.

Description: § 205(d) Rate Filing: Tariff Amendments to Clarify Redispatch Provisions to be effective 5/29/2016.

Filed Date: 3/30/16.

Accession Number: 20160330-5137.

Comments Due: 5 p.m. ET 4/20/16.

Docket Numbers: ER16-1287-000.

Applicants: Southern California Edison Company.

Description: § 205(d) Rate Filing: Revised Non-Trasmission Depreciation Rates in SCE's Formula Transmission Rate to be effective 5/30/2016.

Filed Date: 3/30/16.

Accession Number: 20160330-5149.

Comments Due: 5 p.m. ET 4/20/16.

Docket Numbers: ER16-1288-000.

Applicants: Southwest Power Pool, Inc.

Description: § 205(d) Rate Filing: 3178 South Central MCN and SPS Interconnection Agreement to be effective 12/31/9998.

Filed Date: 3/30/16.

Accession Number: 20160330-5157.

Comments Due: 5 p.m. ET 4/20/16.

Docket Numbers: ER16-1289-000.

Applicants: Louisville Gas and Electric Company.

Description: § 205(d) Rate Filing: Amendment to Attachment M to be effective 5/30/2016.

Filed Date: 3/30/16.

Accession Number: 20160330-5164.

Comments Due: 5 p.m. ET 4/20/16.

Docket Numbers: ER16-1290-000.

Applicants: Southwest Power Pool, Inc.

Description: § 205(d) Rate Filing: 1628R9 Western Farmers Electric Cooperative NITSA to be effective 3/1/2016.

Filed Date: 3/30/16.

Accession Number: 20160330-5165.

Comments Due: 5 p.m. ET 4/20/16.

Docket Numbers: ER16-1291-000.

Applicants: PJM Interconnection, L.L.C.

Description: Compliance filing: Compliance Filing in Docket No. EL14-94-001 re: Market Seller Offer Caps to be effective 3/1/2016.

Filed Date: 3/30/16.

Accession Number: 20160330-5220.

Comments Due: 5 p.m. ET 4/20/16.

Docket Numbers: ER16-1292-000.

Applicants: Southern California Edison Company.

Description: § 205(d) Rate Filing: Filing to Modify Formula Transmission Rate Schedule 33 Retail Rate Design to be effective 5/30/2016.

Filed Date: 3/30/16.

Accession Number: 20160330-5226.

Comments Due: 5 p.m. ET 4/20/16.

Take notice that the Commission received the following qualifying facility filings:

Docket Numbers: QF16-601-000.

Applicants: Trenton Biogas LLC.

Description: Form 556 of Trenton Biogas LLC.

Filed Date: 3/29/16.

Accession Number: 20160329-5279.

Comments Due: None Applicable.

Take notice that the Commission received the following electric reliability filings:

Docket Numbers: RR13-12-004; EL13-52-003.

Applicants: Western Electricity Coordinating Council, Peak Reliability.

Description: Joint Motion of Western Electricity Coordinating Council and Peak Reliability to Terminate Sub-Delegation.

Filed Date: 3/30/16.

Accession Number: 20160330-5178.

Comments Due: 5 p.m. ET 4/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2016.
Nathaniel J. Davis, Sr.,
Deputy Secretary.

[FR Doc. 2016-07720 Filed 4-4-16; 8:45 am]

BILLING CODE 6717-01-P